DEPARTMENT OF JUSTICE

Antitrust Division

Notice Pursuant to the National Cooperative Research and Production Act of 1993—Undersea Technology Innovation Consortium

Notice is hereby given that, on January 21, 2020, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, AVL Powertrain Engineering, Inc., Plymouth, MI; CAMX Power LLC, Lexington, MA; Embry-Riddle Aeronautical University, Daytona Beach, FL; Graphene Composites USA, Inc., Providence, RI; I Square Systems, LLC, Middletown, RI; Klein Marine Systems, Inc., Salem, NH; Systima Technologies, Inc., Kirkland, WA; Triumph Enterprises, Inc., Vienna, VA; University of South Carolina (U.S.C.), Columbia, SC; W R Systems, Ltd., Fairfax, VA; and Xilectric Inc., Fall River, MA have been added as parties to this venture.

Also, Cydecor, Inc., Arlington, VA; Global Foundation for Ocean Exploration, West Redding, CT; GLX Power Systems Inc., Cleveland, OH; Linden Photonics Inc., Westford, MA; MACSEA Ltd., Stonington, CT; Northeastern University, Burlington, MA; Prescient Edge Corporation, McLean, VA; Psionic, LLC, Hampton, VA; QuickFlex Inc., San Antonio, TX; TDI Technologies, Inc., King of Prussia, PA; and Tethers Unlimited, Inc., Bothell, WA have withdrawn as parties from this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on October 15, 2019. A notice was published in the Federal Register pursuant to Section 6(b) of the Act on November 12, 2019 (84 FR 61070).

Suzanne Morris,
Chief, Premerger and Division Statistics, Antitrust Division.

[FR Doc. 2020-04014 Filed 2-26-20; 8:45 am]

BILLING CODE 4410-11-P